COMMITTEE FOR PURCHASE FROM PEOPLE WHO ARE BLIND OR SEVERELY DISABLED

Procurement List: Deletion

AGENCY: Committee for Purchase From People Who Are Blind or Severely Disabled.

ACTION: Deletion from the Procurement List.

SUMMARY: This action deletes from the Procurement List a product previously furnished by nonprofit agencies employing persons who are blind or have other severe disabilities.

DATES: Effective Date: June 22, 2008.

ADDRESSES: Committee for Purchase From People Who Are Blind or Severely Disabled, Jefferson Plaza 2, Suite 10800, 1421 Jefferson Davis Highway, Arlington, Virginia, 22202-3259.

FOR FURTHER INFORMATION CONTACT: Kimberly M. Zeich, Telephone: (703) 603-7740, Fax: (703) 603-0655, or e-mail CMTEFedReg@jwod.gov.

SUPPLEMENTARY INFORMATION:

Deletion:

On March 28, 2008, the Committee for Purchase From People Who Are Blind or Severely Disabled published notice (73 FR16639) of proposed deletions to the Procurement List.

After consideration of the relevant matter presented, the Committee has determined that the product listed below is no longer suitable for procurement by the Federal Government under 41 U.S.C. 46-48c and 41 CFR 51-2.4.

Regulatory Flexibility Act Certification

I certify that the following action will not have a significant impact on a substantial number of small entities. The major factors considered for this certification were:

1. The action should not result in additional reporting, recordkeeping or other compliance requirements for small entities.

2. The action may result in authorizing small entities to furnish the product to the Government.

3. There are no known regulatory alternatives which would accomplish the objectives of the Javits-Wagner-O'Day Act (41 U.S.C. 46-48c) in connection with the product deleted from the Procurement List.

End of Certification

Accordingly, the following product is deleted from the Procurement List:

Product:

Cover, Ironing Board and Pad Set

NSN: M.R. 968.

NPA: Chester County Branch of the PAB, Coatesville, PA.

Contracting Activity: Defense Commissary Agency (DeCA), Fort Lee, VA.

Kimberly M. Zeich,
Director, Program Operations.

[FR Doc. E8-11608 Filed 5-22-08; 8:45 am]

BILLING CODE 6353-01-P